OFFICE OF SCIENCE AND TECHNOLOGY POLICY

Workshop on National Nanotechnology Initiative Research Directions Sponsored with the National Science and Technology Council, Subcommittee on Nanoscale Science, Engineering and Technology

ACTION: Notice of open meeting.

SUMMARY: This notice announces a workshop sponsored by the Nanoscale Science, Engineering and Technology (NSET) Subcommittee of the Committee on Technology, National Science and Technology Council (NSTC) and the National Nanotechnology Coordination Office (NNCO) to review the current program of the National Nanotechnology Initiative (NNI) and to make program recommendations for the next five to ten years.

DATES: The Nanoscale Science, Engineering and Technology Subcommittee (NSET) and the National Nanotechnology Coordination Office will hold a two-day workshop on Wednesday, September 8, 2004, 10:30 a.m. to 6 p.m.; and Thursday, September 9, 2004, 8:30 a.m. to 6 p.m.

ADDRESSES: All sessions of the workshop will be held at the National Academy of Sciences Building, 2100 C St., NW., Washington, DC 20418, USA.

FOR FURTHER INFORMATION CONTACT: For information regarding this Notice, please contact Cate Alexander, National Nanotechnology Coordination Office. Telephone: (703) 292-4399. E-mail: calexand@nnco.nano.gov.

SUPPLEMENTARY INFORMATION: The Nanoscale Science Engineering and Technology (NSET) Subcommittee coordinates planning, budgeting, program implementation and review to ensure a balanced and comprehensive National Nanotechnology Initiative. The NSET Subcommittee is composed of representatives from agencies participating in the NNI.

The purpose of this workshop is to provide feedback to the NSET regarding the current NNI program and to make recommendations to guide the development of a new NNI strategic plan for the next five to ten years. Following presentations on research progress in funded program areas, workshop participants will be asked to review current NNI research areas and to evaluate and make recommendations about the future structure and funding components of the NNI including the grand challenge areas. Background materials on current funding areas can be found in the report National Nanotechnology Initiative; Research and Development Supporting the Next Industrial Revolution, Supplement to the President's FY2004 Budget, October 2003, which is posted on the Internet at http://www.nano.gov/html/res/fy04-pdf/fy04-main.html.

Public Participation: This meeting is open to the public. Time has been reserved for public comments (restricted to 5 minutes maximum for each participant; written statements may be submitted) at 5 p.m. on September 8, 2004. Registration for the workshop is required. Interested persons can register at https://nnco.nano.gov/public_rd2/index.php.

The NNCO assists the NSET Subcommittee of the Committee on Technology of the NSTC in coordinating the NNI. The NSTC was established under Executive Order 12881.

Ann F. Mazur,
Assistant Director for Budget and Administration.

[FR Doc. 04-20139 Filed 9-1-04; 8:45 am]

BILLING CODE 3170-WF-P